DEPARTMENT OF HEALTH AND HUMAN SERVICES

National Institutes of Health

Center for Scientific Review; Amended Notice of Meeting

Notice is hereby given of a change in the meeting of the Center for Scientific Review Special Emphasis Panel, July 27, 2009, 9 a.m. to July 28, 2009, 6 p.m., National Institutes of Health, 6701 Rockledge Drive, Bethesda, MD 20892 which was published in the Federal Register on July 1, 2009, 74 FR 31453-31454.

The meeting will be held August 3, 2009 to August 4, 2009. The meeting time and location remain the same. The meeting is closed to the public.

Dated: July 23, 2009.
Jennifer Spaeth,
Director, Office of Federal Advisory Committee Policy.

[FR Doc. E9-18023 Filed 7-28-09; 8:45 am]

BILLING CODE 4140-01-P